NATIONAL SCIENCE FOUNDATION

Advisory Committee for International Science and Engineering; Notice of Meeting

In accordance with the Federal Advisory Committee Act (Pub. L. 92-463, as amended), the National Science Foundation (NSF) announces the following meeting:

NAME AND COMMITTEE CODE: Advisory Committee for International Science and Engineering Meeting (AC-ISE) (#25104).

DATE AND TIME: Friday, December 13, 2019; 9:00 a.m. to 5:30 p.m. (EST).

PLACE: National Science Foundation, 2415 Eisenhower Avenue, Alexandria, VA 22314.

This is a virtual meeting. The AC-ISE members will be attending remotely. Public visitors are welcome to attend either remotely or in person at the National Science Foundation, 2415 Eisenhower Avenue, Alexandria, Virginia 22314. The final meeting agenda is forthcoming and will be posted at the AC-ISE website: https://www.nsf.gov/od/oise/advisory.jsp or the AC-ISE meeting announcement/WebEx login information.

TYPE OF MEETING: Open.

CONTACT PERSON: Victoria Fung, National Science Foundation, 2415 Eisenhower Avenue, Room W17220, Alexandria, Virginia, 22314; Telephone: 703/292-7560.

PURPOSE OF MEETING: To provide advice, recommendations and counsel on major goals and policies pertaining to international programs and activities.

Agenda

Friday, December 13, 2019 9:00 a.m.-5:30 p.m.

• Updates on OISE activities/AccelNet Status

• Briefing on MULTIPLIER Trip to United Kingdom/MULTIPLIER Moving Forward

• Discussion on Science and Security

• Updates on SBE Directorate Reorganization

• Collaboration with Africa

• Discussion on OISE Branding

• Discussion/Future Recommendations from AC-ISE

• Meet with NSF leadership

Dated: November 14, 2019.
Crystal Robinson,
Committee Management Officer.

[FR Doc. 2019-25064 Filed 11-18-19; 8:45 am]

BILLING CODE 7555-01-P